DEPARTMENT OF JUSTICE

Notice of Lodging of Consent Decree Under the Clean Air Act

Notice is hereby given that on February 28, 2011, a proposed consent decree (“proposed Decree”) in United States v. Powertrain, Inc., et al., Civil Action No. 1:09-cv-00993, was lodged with the United States District Court for the District of Columbia.

In this action under Sections 203, 204, 205, 207, 208, and 213 of the Clean Air Act,, 42 U.S.C. 7522, 7523, 7524, 7541, and 7547, and the regulations promulgated thereunder at 40 CFR Part 90, the United States' complaint alleges that Defendants Powertrain, Inc., Wood Sales Co., Inc., and Tool Mart, Inc. imported, or caused the importation of, and sold or otherwise introduced into commerce, engines that were not covered by EPA certificates of conformity, lacked legally sufficient emissions-control labels, and lacked sufficient emissions-related warranties; and failed to maintain required records and fully respond to an EPA Information Request.

The proposed Decree requires Defendants to jointly pay a $2 million civil penalty to the United States and perform the following injunctive measures: Export or destroy noncompliant engines in Defendants' inventory; implement a Corporate Compliance Plan, with enhanced inspection and emissions testing requirements; and mitigate past excess emissions with one or more emissions offset programs.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Powertrain Inc., et al., D.J. Ref. 90-5-2-1-09332.

During the public comment period, the proposed Decree may be examined on the following Department of Justice Web site: http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.75 (25 cents per page reproduction cost) payable to the U.S. Treasury or, if by e-mail or fax, forward a check in that amount to the Consent Decree Library at the stated address.

Maureen Katz,
Assistant Chief, Environmental Enforcement Section, Environment and Natural Resources Division.

[FR Doc. 2011-4936 Filed 3-3-11; 8:45 am]

BILLING CODE 4410-15-P